NATIONAL SKILL STANDARDS BOARD

Solicitation of Comments

AGENCY: National Skill Standards Board.

ACTION: Solicitation of comments.

SUMMARY: The National Skill Standards Board (NSSB) is building a voluntary national system of skill standards, assessments, and certification that will enhance the ability of the U.S. to compete effectively in a global economy. Industry-led, voluntary coalitions, called Voluntary Partnerships, are developing the skill standards, assessment, and certification systems within fifteen NSSB-defined industry sectors. The NSSB has developed a set of criteria for certification, against which the Board will evaluate for approval certifications developed by the Voluntary Partnerships. The NSSB seeks public comment on these criteria to ensure clarity and comprehensiveness. Comments must be submitted in writing as described in the “Request for and Resolution of Comments” in the SUPPLEMENTARY INFORMATION section below in order to be considered, and details on submitting comments via e-mail, fax, or regular mail are provided in the ADDRESSES section of this announcement.

DATES: The National Skill Standards Board will accept written comments on the criteria for certification on or before August 22, 2002.

ADDRESSES: Please send comments via regular mail to: NSSB, Attention: Bridget Brown, Director of Program Development, 1441 L Street, NW., Suite 9000, Washington, DC 20005-3512. To submit comments via fax, transmit to Bridget Brown, Certification Criteria, at 202-254-8646. To submit comments via the Internet, go to http://www.nssb.org. Click on the icon entitled “View and Comment on Certification Criteria Here”

FOR FURTHER INFORMATION CONTACT: For further information on the Voluntary National System of Industry Skill Standards, Assessment, and Certification, contact Bridget Brown, National Skill Standards Board (NSSB): 1441 L Street, NW., Suite 9000, Washington DC 20005, 202-254-8628, http://www.nssb.org.

SUPPLEMENTARY INFORMATION:

Table of Contents

I. Background

II. Authorizing Legislation

III. NSSB Criteria for Assessment

IV. Request for and Resolution of Comments

I. Background

The National Skill Standards Act of 1994 created “a National Skill Standards Board to serve as a catalyst in stimulating the development and adoption of a voluntary national system of skill standards and of assessment and certification of attainment of skill standards' (see Section II below). The Act defines a skill standard as one that specifies the level of knowledge and skills required to successfully perform work-related functions within an industry cluster. Industry clusters are broad groups of industries defined by the NSSB to delineate the scope of employment covered by skill standards. They are based on the federal government's official 1997 North American Industry Classification System. Industry coalitions called Voluntary Partnerships (VPs) are developing the skill standards, assessment and certification systems within fifteen industry clusters. The skill standards, and therefore assessments and certifications, are being developed to reflect the needs of high-performance organizations.

II. Authorizing Legislation

Public Law 103-227, Title V, National Skill Standards Act of 1994.

III. NSSB Criteria for Certification

The National Skill Standards Board (NSSB) will use the following specific criteria to evaluate the degree to which skill standards systems include an appropriate certification program, and the degree to which this program adheres to statutory requirements and NSSB policy on certification. Voluntary Partnerships must demonstrate adherence to the criteria in order to receive NSSB approval and ultimate endorsement of the entire system.

Criteria Related to Legal and Technical Defensibility

E1. The certification organization and program do not discriminate against any class of individuals based upon race, color, ethnicity, age, gender, religion, national origin, disability, or any other criteria covered in federal civil rights law.

E2. The certification program includes a policy specifying record retention requirements for assessment results, applications, and other key documentation required to administer the certification program.

E3. The certification program includes a process to ensure compliance with applicable laws and regulations pertaining to assessment and certification.

E4. The scoring methodology (i.e., pass/fail scoring, categorical scoring, percentile scoring) for the assessment(s) is clearly documented and defensible. Where more than one assessment module, test, or subtest are used for certification, the rationale for weighting and otherwise combining these into an overall certification decision is clearly documented and supportable.

E5. The certification must be clearly based upon skill standards research approved by the NSSB.

Criteria Related to System Quality and Integrity

E6. The certification organization demonstrates sufficient staff resources, with appropriate technical training and education, to maintain the quality and integrity of the program.

E7. A written policies and procedures manual addressing the operation of the certification program is implemented.

E8. The certification program includes a process to ensure continual compliance of the certification program with all NSSB criteria to maintain approval. The certification organization must provide the NSSB with annual summaries of relevant data including, but not limited to, number of certifications pending, number of total certificants, certifications awarded during the period covered, data disaggregated by demographic categories, and pass/fail rates.

E9. Certifications are effective for a limited time period, at which time an individual must re-certify. Re-certification policies should be clearly communicated to stakeholders at the time of the initial application.

Criteria Related to Security and Protection

E10. The certification program incorporates an appeals process that provides fair and legal methods for challenging decisions on certification status and assessment results. The appeals policies and procedures are readily accessible to all stakeholders.

E11. The certification program maintains a registry of certified individuals and utilizes a formal process to provide confirmation of an individual's current certification status. Specific policies are required describing the confidentiality of assessment results and rules/conditions for access to this information. Unless required by law or regulation, information regarding candidates or certificants (other than certification status) shall not be disclosed to third parties without the written consent of the individual.

E12. Certification is awarded only to individuals who have successfully completed the required assessment(s).

E13. A security policy is established, documented, and monitored by the certifying organization. Security policies should include, but not be limited to: (1) Criteria for the selection, training, utilization, monitoring, and performance of proctors, assessors, raters and other individuals involved in administering and scoring; (2) access to item banks and various computer-based and non-computer based forms of the assessment; and (3) requirements for formal investigations of suspected misconduct in assessment centers.

V. Request for and Resolution of Comments

The National Skill Standards Board (NSSB) requests that comments submitted address one or more of the following areas:

• The adequacy and completeness of this list of criteria;

• The clarity of the criteria;

• Examples or descriptions of how the VPs can meet the criteria; and,

• Examples of how to document compliance with the criteria.

The NSSB shall review and take into consideration all comments; will respond in writing to comments as appropriate; and, will make revisions as deemed appropriate. At the end of the comment period the NSSB will post a summary of comments on the NSSB Website http://www.nssb.org. A summary of the response to comments and a notice of revision will be posted at a later date.

Signed at Washington DC on the 18th day of July, 2002.
Edie West,
Executive Director, National Skill Standards Board.

[FR Doc. 02-18567 Filed 7-22-02; 8:45 am]

BILLING CODE 4510-BF-P